DEPARTMENT OF TRANSPORTATION

Federal Highway Administration

[Docket No. FHWA-2004-17920]

Agency Information Collection Activities; Request for Comments; Renewed Approval of Four Information Collections

AGENCY: Federal Highway Administration (FHWA), DOT.

ACTION: Notice and request for comments.

SUMMARY: The FHWA invites public comments about our intention to request the Office of Management and Budget's (OMB) approval to renew the four information collections, which are summarized below under SUPPLEMENTARY INFORMATION. We are required by the Paperwork Reduction Act of 1995 to publish this notice in the Federal Register.

DATES: Please submit comments by August 9, 2004.

ADDRESSES: You may submit comments identified by DOT DMS Docket Number FHWA-2004-17920 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 am and 5 pm, Monday through Friday, except Federal holidays.

Docket: For access to the docket to read background documents or comments received, go to http://dms.dot.gov at any time, or go to Room PL-401 on the plaza level of the Nassif Building, 400 Seventh Street, SW., Washington, DC, between 9 am and 5 pm, Monday through Friday, except Federal holidays.

SUPPLEMENTARY INFORMATION: 1. Title: Voucher for Federal-aid Reimbursements.

OMB Control Number: 2125-0507 (Expiration Date: August 31, 2004).

Abstract: The Federal-aid Highway Program provides for the reimbursement to States for expenditure of State funds for eligible Federal-aid highway projects. The Voucher for Work Performed Under Provisions of the Federal Aid and Federal Highway Acts, As Amended (Form PR-20), is utilized by the States to provide project financial data regarding the expenditure of State funds and to request progress payments from the FHWA.

Respondents: 50 State Transportation Departments, the District of Columbia, Puerto Rico, Guam, American Samoa, and the Virgin Islands.

Estimated Total Annual Burden: The respondents electronically submit an estimated total of 12,300 vouchers each year. Each voucher requires an estimated average of 30 minutes to complete. The total annual burden for all respondents is estimated to be 6,150 hours.

For Further Information Contact: Ms. Bobette Meads, 202-366-2881, Department of Transportation, Federal Highway Administration, Office of Budget and Finance, 400 Seventh Street, SW., Washington, DC 20590. Office hours are from 7:30 a.m. to 4:30 p.m., Monday through Friday, except Federal holidays.

2. Title: Develop and Submit Utility Accommodation Policies.

OMB Control Number: 2125-0514 (Expiration Date: August 31, 2004).

Abstract: State Departments of Transportation are required to develop and submit to the FHWA a policy statement on the authority of utilities to use and occupy highway rights-of-way; the State's authority to regulate such use; and the policies and/or procedures employed for accommodating utilities within the rights-of-way of Federal-aid highway projects. Upon FHWA's approval of the policy statement, the State DOT may take any action required in accordance with the approved policy statement without a case-by-case review by the FHWA. In addition, the utility accommodation policy statements that have been approved previously by the FHWA are periodically reviewed by the State DOTs to determine if updating is necessary to reflect policy changes.

Respondents: 50 State Transportation Departments, the District of Columbia and Puerto Rico.

Frequency: Periodic updates for review as required at the States' discretion.

Estimated Total Annual Burden: The average burden for updating an existing policy is 280 hours per response. The total annual burden, based upon an estimated five States submitting updated policy statements per year, is 1,400 hours.

For Further Information Contact: Mr. Roger McClellan, 202-366-6765, Department of Transportation, Federal Highway Administration, Office of Program Administration, 400 Seventh Street, SW., Washington, DC 20590. Office hours are from 7:30 a.m. to 4:30 p.m., Monday through Friday, except Federal holidays.

3. Title: Eligibility Statement for Utility Adjustments.

OMB Control Number: 2125-0515 (Expiration Date: August 31, 2004).

Abstract: State Departments of Transportation are required to submit to the FHWA a statement, which establishes the State DOT's legal authority or obligation to pay for utility adjustments. The FHWA has previously reviewed and approved these eligibility statements for each State DOT. The statements are used as a basis for Federal-aid reimbursement in utility relocation costs under the provisions of 23 U.S.C. 123. The updated statements may be submitted for review at the States' discretion where circumstances have modified (for example, a change in State statute) the extent to which utility adjustments are eligible for reimbursement by the State or those instances where a local State DOT's legal basis for payment of utility adjustments differs from that of the State.

Respondents: 50 State Transportation Departments, the District of Columbia and Puerto Rico.

Frequency: Periodic updates for review as required at the States' discretion.

Estimated Total Annual Burden: The average burden for preparing and submitting an updated eligibility statement is 18 hours per response. The total annual burden, based upon an estimated five updated eligibility statements per year, is 90 hours.

For Further Information Contact: Mr. Roger McClellan, 202-366-6765, Department of Transportation, Federal Highway Administration, Office of Program Administration, 400 Seventh Street, SW., Washington, DC 20590. Office hours are from 7:30 a.m. to 4:30 p.m., Monday through Friday, except Federal holidays.

4. Title: Certificate of Enforcement of Heavy Vehicle Use Tax.

OMB Control Number: 2125-0541 (Expiration Date: August 31, 2004).

Abstract: Title 23, United States Code, Section 141(c), provides that a State's apportionment of funds under 23 U.S.C. 104(b)(5) shall be reduced in an amount up to 25 percent of the amount to be apportioned during any fiscal year beginning after September 30, 1984, if vehicles subject to the Federal heavy vehicle use tax are lawfully registered in the State without having presented proof of payment of the tax. The annual certification by the State Governor or designated official regarding the collection of the heavy vehicle use tax serves as the FHWA's primary means of determining State compliance. The FHWA has determined that an annual certification of compliance by each State is the least obtrusive means of administering the provisions of the legislative mandate. In addition, States are required to retain for one year Schedule 1, IRS Form 2290, Heavy Highway Vehicle Use Tax Return (or other suitable alternative provided by regulation). The FHWA periodically conducts compliance reviews to determine if the annual certification is adequate to ensure effective administration of 23 U.S.C.141(c).

Respondents: 50 State Transportation Departments, and the District of Columbia.

Frequency: Annually.

Estimated Total Annual Burden: The average burden to submit the certification and to retain required records is 12 hours per respondent. The estimated total annual burden is 612 hours.

For Further Information Contact: Ms. Gloria Williams, 202-366-5032, Department of Transportation, Federal Highway Administration, Office of Highway Policy Information, 400 Seventh Street, SW., Washington, DC 20590. Office hours are from 7:30 a.m. to 4:30 p.m., Monday through Friday, except Federal holidays.

Public Comments Invited: You are asked to comment on any aspect of these information collections, including: (1) Whether the proposed collections are necessary for the FHWA's performance; (2) the accuracy of estimated burdens; (3) ways for the FHWA to enhance the quality, usefulness, and clarity of the collected information; and (4) ways that burdens could be minimized, including use of electronic technology, without reducing the quality of the collected information. The agency will summarize and/or include your comments in the request for OMB's clearance of these information collections.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: The Paperwork Reduction Act of 1995; 44 U.S.C. Chapter 35, as amended; and 49 CFR 1.48.

Issued on: June 4, 2004.
James R. Kabel,
Chief, Management Programs and Analysis Division.

[FR Doc. 04-13150 Filed 6-9-04; 8:45 am]

BILLING CODE 4910-22-P